DEPARTMENT OF COMMERCE

Foreign-Trade Zones Board

[Order No. 1260]

Expansion of Foreign-Trade Zone 181; Akron/Canton, OH Area

Pursuant to its authority under the Foreign-Trade Zones Act of June 18, 1934, as amended (19 U.S.C. 81a-81u), the Foreign-Trade Zones Board (the Board) adopts the following Order:

Whereas, the Northeast Ohio Trade & Economic Consortium, grantee of Foreign-Trade Zone No. 181, submitted an application to the Board for authority to expand FTZ 181 in the Akron/Canton, Ohio area, within and adjacent to the Cleveland Customs port of entry (FTZ Docket 8-2002, filed 1/30/2002; amended 9/18/02 to withdraw the proposed Lorain site);

Whereas, notice inviting public comment was given in the Federal Register (67 FR 6679, 2/13/2002) and the application has been processed pursuant to the FTZ Act and the Board's regulations; and,

Whereas, the Board adopts the findings and recommendations of the examiner's report, and finds that the requirements of the FTZ Act and the Board's regulations are satisfied, and that the proposal is in the public interest;

Now, therefore, the Board hereby orders:

The application to expand FTZ 181 is approved, subject to the Act and the Board's regulations, including Section 400.28, and further subject to the Board's standard 2,000-acre activation limit for the overall zone project, and to a sunset provision that would terminate authority for each of the sites on December 31, 2007, except for those sites that are activated pursuant to 19 CFR part 146 of the U.S. Customs regulations at any time prior to the termination date.

Signed at Washington, DC, this 21st day of November 2002.
Faryar Shirzad,
Assistant Secretary of Commerce for Import Administration, Alternate Chairman, Foreign-Trade Zones Board.

[FR Doc. 02-30626 Filed 12-2-02; 8:45 am]

BILLING CODE 3510-DS-P